DEPARTMENT OF HOMELAND SECURITY

Coast Guard

[Docket No. USCG-2014-0170]

North Carolina Area Maritime Security Advisory Committee; Vacancies

AGENCY: Coast Guard, DHS.

ACTION: Notice of solicitation for membership.

SUMMARY: This notice requests individuals interested in serving on the North Carolina Area Maritime Security Committee (AMSC) to submit their applications for membership, to the Captain of the Port, North Carolina.

DATES: Requests for membership should reach the U.S. Coast Guard Captain of the Port North Carolina on or before November 24, 2014.

ADDRESSES: Applications for membership should be submitted to the Captain of the Port at the following address: Commander (sx), United States Coast Guard, Sector North Carolina, 721 Medical Center Drive, Wilmington, NC 28401 or by email to Douglas.R.Lincoln@uscg.mil.

FOR FURTHER INFORMATION CONTACT: For questions about submitting an application or about the North Carolina Area Maritime Security Committee in general, contact LCDR Douglas Lincoln at 252-247-4519 or by email to Douglas.R.Lincoln@uscg.mil.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees (AMSCs) for any port area of the United States. (See 33 U.S.C. 1226; 46 U.S.C.; 33 CFR 1.05-1, 6.01; Department of Homeland Security Delegation No. 0170.1). MTSA includes a provision exempting these AMSCs from the Federal Advisory Committee Act, Public Law 92-436, 86 Stat. 470 (5 U.S.C. App. 2).

North Carolina AMSC Purpose

The AMSCs shall assist the Captain of the Port in the development, review, update, and exercising of the AMS Plan for their area of responsibility. Such matters may include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied; and Providing advice to, and assisting the Captain of the Port in developing and maintaining the Area Maritime Security Plan.

AMSC Composition

The composition of an AMSC, to include the North Carolina AMSC and its subcommittees, is controlled by 33 CFR 103.305. Accordingly, members may be selected from the Federal, Territorial, or Tribal government; the State government and political subdivisions of the State; local public safety, crisis management, and emergency response agencies; law enforcement and security organizations; maritime industry, including labor; other port stakeholders having a special competence in maritime security; and port stakeholders affected by security practices and policies. Also, members of the North Carolina AMSC must have at least 5 years of experience related to maritime or port security operations.

AMSC Membership

The North Carolina AMSC has 11 members who represent Federal, State, local, and industry stakeholders from North Carolina. We are seeking to fill 3 positions with this solicitation. Applicants may be required to pass an appropriate security background check prior to appointment to the committee. Members' terms of office will be for 3 years; however, a member is eligible to serve additional terms of office. Members will not receive any salary or other compensation for their service on an AMSC.

Request for Applications

Those seeking membership are not required to submit formal applications to the local Captain of the Port, however, because we do have an obligation to ensure that a specific number of members have the prerequisite maritime security experience, we encourage the submission of resumes highlighting experience in the maritime and security industries.

In support of the USCG policy on gender and ethnic nondiscrimination, we encourage qualified women and men of all racial and ethnic groups to apply.

Dated: October 1, 2014.
S.R. Murtagh,
Captain, U.S. Coast Guard, Captain of the Port/Federal Maritime Security Coordinator North Carolina.

[FR Doc. 2014-25386 Filed 10-23-14; 8:45 am]

BILLING CODE 9110-04-P